DEPARTMENT OF JUSTICE

Drug Enforcement Administration

[Docket No. 04-40]

Sarfraz Mirza, M.D. Revocation of Registration

On March 2, 2004, the Deputy Assistant Administrator, Office of Diversion Control, Drug Enforcement Administration (DEA), issued an Order to Show Cause to Sarfraz Mirza, M.D. (Respondent) of Melbourne, FL, notifying him of an opportunity to show cause as to why DEA should not revoke his DEA Certificate of Registration, AM8413813, as a practitioner, pursuant to 21 U.S.C. 824(a)(3) and deny any pending applications for renewal of that registration pursuant to 21 U.S.C. 823(f). As a basis for revocation, the Order to Show Cause alleged that the Florida Department of Health had ordered an immediate suspension of Respondent's license to practice medicine in Florida and accordingly, he was not authorized to handle controlled substances in the state in which he is registered.

On May 17, 2004, through counsel, Respondent timely requested a hearing in this matter. On May 25, 2004, Administrative Law Judge Mary Ellen Bittner (Judge Bittner) issued the Government, as well as Respondent, an Order for Prehearing Statements.

In lieu of filing a prehearing statement, the Government filed Government's Request for Stay of Proceedings and Motion for Summary Disposition. The Government argued Respondent was without authorization to handle controlled substances in the State of Florida, and as a result, further proceedings in the matter were not required. Attached to the Government's motion was a copy of the State of Florida, Department of Health's Order of Emergency Suspension of License, indefinitely suspending Respondent's license to practice medicine in Florida, effective as of July 29, 2003.

On June 4, 2003, Judge Bittner issued a Memorandum to Counsel, staying the filing of prehearing statements and giving Respondent an opportunity to respond to the Government's motion. Respondent failed to file a response to the motion.

On August 10, 2004, Judge Bittner issued her Opinion and Recommended Decision of the Administrative Law Judge (Opinion and Recommended Decision). As part of her recommended ruling, Judge Bittner granted the Government's Motion for Summary Disposition, finding the Respondent lacked authorization to handle controlled substances in Florida, the jurisdiction in which he is registered. Judge Bittner recommended that Respondent's DEA registration be revoked and any pending applications for renewal or modification of that registration be denied. No exceptions were filed by either party to Judge Bittner's Opinion and Recommended Decision and on September 15, 2004, the record of these proceedings was transmitted to the Office of the DEA Deputy Administrator.

The Deputy Administrator has considered the record in its entirety and pursuant to 21 CFR 1316.67, hereby issues her final order based upon findings of fact and conclusions of law as hereinafter set forth. The Deputy Administrator adopts, in full, the Opinion and Recommended Decision of the Administrative Law Judge.

The Deputy Administrator finds that Respondent holds DEA Certificate of Registration, AM8413813. The Deputy Administrator further finds that, effective as of July 29, 2003, the State of Florida, Department of Health issued its Order of Emergency Suspension of License, suspending Respondent's authority to practice as a physician in the State of Florida. There is no evidence in the record indicating that this suspension has been lifted, stayed or that Respondent's license has been reinstated. As a result, he is not currently authorized to prescribe, dispense, administer, or otherwise handle controlled substances in the State of Florida, his place of DEA registration.

DEA does not have statutory authority under the Controlled Substances Act to issue or maintain a registration if the applicant or registrant is without state authority to handle controlled substances in the state in which he conducts business. See 21 U.S.C. 802(21), 823(f) and 924(a)(3). This prerequisite has been consistently upheld. See Karen Joe Smiley, M.D., 68 FR 48,944 (2003); Dominick A. Ricci, M.D., 58 FR 51,104 (1993); Bobby Watts, M.D., 53 FR 11,919 (1988). Revocation is also appropriate when a state license has been suspended, but with a possibility of future reactivation. See Anne Lazar Thorn, M.D., 62 FR 12,847 (1997).

Here, it is clear Respondent currently lacks authority to handle controlled substances in Florida, the state in which he is registered with DEA as a practitioner. Therrefore, DEA does not have authority to maintain Respondent's DEA Certificate of Registration for his Florida practice or to grant any pending applications for renewal or modification of that registration.

Accordingly, the Deputy Administrator of the Drug Enforcement Administration, pursuant to the authority vested in her by 21 U.S.C. 823 and 824 and 28 CFR 0.100(b) and 0.104, hereby orders that DEA Certificate of Registration, AM8413813, issued to Safraz Mirza, M.D., be, and it hereby is, revoked. The Deputy Administrator further orders that any pending applications for renewal or modification of such registration be, and they hereby are, denied. This order is effective November 22, 2004.

Dated: October 5, 2004.
Michele M. Leonhart,
Deputy Administrator.

[FR Doc. 04-23717 Filed-10-21-04; 8:45 am]

BILLING CODE 4410-09-M